DEPARTMENT OF ENERGY

Federal Energy Regulatory Commission

Notice of Membership of Performance Review Board for Senior Executives (PRB)

April 16, 2009.

The Federal Energy Regulatory Commission hereby provides notice of the membership of its Performance Review Board (PRB) for the Commission's Senior Executive Service (SES) members. The function of this board is to make recommendations relating to the performance of senior executives in the Commission. This action is undertaken in accordance with Title 5, U.S.C., Section 4314(c)(4). The Commission's PRB will add the following member: James A. Pederson

Kimberly D. Bose,
Secretary.

[FR Doc. E9-9228 Filed 4-21-09; 8:45 am]

BILLING CODE 6717-01-P